DEPARTMENT OF HEALTH AND HUMAN SERVICES

Office of the Secretary

Findings of Research Misconduct

AGENCY: Office of the Secretary, HHS.

ACTION: Notice.

SUMMARY: Findings of research misconduct have been made on the part of Venkata Sudheer Kumar Ramadugu, Ph.D. (Respondent), former postdoctoral scientist in the Department of Chemistry, University of Michigan (UM). Dr. Ramadugu engaged in research misconduct in research supported by National Institute of General Medical Sciences (NIGMS), National Institutes of Health (NIH), grant R01 GM084018 and National Institute on Aging (NIA), NIH, grant R01 AG048934. The administrative actions, including debarment for a period of five (5) years, were implemented beginning on December 4, 2018, and are detailed below.

FOR FURTHER INFORMATION CONTACT: Wanda K. Jones, Dr. P.H., Interim Director, Office of Research Integrity, 1101 Wootton Parkway, Suite 750, Rockville, MD 20852, (240) 453-8200.

SUPPLEMENTARY INFORMATION: Notice is hereby given that the Office of Research Integrity (ORI) has taken final action in the following case:

Venkata Sudheer Kumar Ramadugu, Ph.D., University of Michigan: Based on the report of an assessment conducted by UM, the Respondent's admission, and analysis conducted by ORI in its oversight review, ORI found that Dr. Venkata Sudheer Kumar Ramadugu, former postdoctoral scientist in the Department of Chemistry, UM, engaged in research misconduct in research supported by NIGMS, NIH, grant R01 GM084018 and NIA, NIH, grant R01 AG048934.

ORI found that Respondent engaged in research misconduct by knowingly and intentionally falsifying and/or fabricating data reported in the following published papers and poster presentation:

• Chemical Communications 53(78):10824-10826, 2017 (hereafter referred to as “Chem. Comm. 2017”).

• Angewandte Chemie-International Edition 56(38):11466-11470, 2017 (hereafter referred to as “Angewandte Chemie-International Edition 2017”).

• Angewandte Chemie-International Edition 57(5):1342-1345, 2018 (hereafter referred to as “Angewandte Chemie-International Edition 2018”).

• Polymer macrodiscs for solid-state NMR structural studies on aligned lipid bilayers.” Presented at the 58th Experimental Nuclear Magnetic Resonance Conference in Pacific Grove (Asilomar), California, March 25-30, 2017 (hereafter referred to as the “ENMRC Poster 2017”).

ORI found that Respondent intentionally and knowingly falsified and/or fabricated NMR spectroscopy data for structure and dynamics of nanodiscs in thirteen (13) figure panels included in three (3) published papers and one (1) poster presentation by manipulating previously generated NMR data from unrelated experiments to falsely represent NMR spectra for completely different experiments. Specifically, Respondent falsified and/or fabricated NMR spectra in:

• Chem. Comm. 2017.

— Figure 2A.

— Figure 2B, top and bottom panels.

— Figure 3, bottom two panels of the right most column.

— Figure S4, second, third, and the bottom panels from the top.

• Angewandte Chemie-International Edition 2017.

— Figures 4E and 4F.

• Angewandte Chemie-International Edition 2018.

— Figure 4B.

• ENMRC Poster 2017.

— Figure labelled “Magnetic Alignment of Macrodiscs,” bottom two panels of the right most column.

Dr. Ramadugu entered into a Voluntary Exclusion Agreement (Agreement) and voluntarily agreed for a period of five (5) years, beginning on December 4, 2018:

(1) Because he also made a false statement in his first admission that no other data were affected in his papers, to exclude himself from any contracting or subcontracting with any agency of the United States Government and from eligibility for or involvement in nonprocurement programs of the United States Government referred to as “covered transactions” pursuant to HHS' Implementation (2 CFR part 376) of OMB Guidelines to Agencies on Governmentwide Debarment and Suspension, 2 CFR part 180 (collectively the “Debarment Regulations”); and

(2) to exclude himself from serving in any advisory capacity to PHS including, but not limited to, service on any PHS advisory committee, board, and/or peer review committee, or as a consultant.

Wanda K. Jones,
Interim Director, Office of Research Integrity.

[FR Doc. 2018-28139 Filed 12-27-18; 8:45 am]

BILLING CODE 4150-31-P